DEPARTMENT OF THE INTERIOR

Bureau of Ocean Energy Management, Regulation and Enforcement

[Docket No. BOEM-2010-0040]

BOEMRE Information Collection Activity: 1010-0172, Open and Nondiscriminatory Access to Oil and Gas Pipelines, Extension of a Collection; Comment Request

AGENCY: Bureau of Ocean Energy Management, Regulation and Enforcement (BOEMRE), Interior.

ACTION: Notice of an extension of an information collection (1010-0172).

SUMMARY: To comply with the Paperwork Reduction Act of 1995 (PRA), BOEMRE is inviting comments on a collection of information that we will submit to the Office of Management and Budget (OMB) for review and approval. The information collection request (ICR) concerns the paperwork requirements in 30 CFR Part 291, Open and Nondiscriminatory Access to Oil and Gas Pipelines under the OCS Lands Act.

DATES: Submit written comments by November 19, 2010.

FOR FURTHER INFORMATION CONTACT: Arlene Bajusz, Policy and Management Improvement at (703) 787-1025. You may also contact Arlene Bajusz to obtain a copy, at no cost, of the information collection.

ADDRESSES: You may submit comments by either of the following methods listed below.

• Electronically: go to http://www.regulations.gov. In the entry titled Enter Keyword or ID, enter docket ID “BOEM-2010-0040,” then click search. Follow the instructions to submit public comments and view supporting and related materials available for this collection. The BOEMRE will post all comments.

• E-mail: arlene.bajusz@boemre.gov. Mail or hand-carry comments to the Department of the Interior; Bureau of Ocean Energy Management, Regulation and Enforcement; Attention: Arlene Bajusz; 381 Elden Street, MS-4020; Herndon, Virginia 20170-4817. Please reference ICR 1010-0172 in your comment and include your name and return address.

SUPPLEMENTARY INFORMATION: Title: 30 CFR Part 291, Open and Nondiscriminatory Access to Oil and Gas Pipelines under the OCS Lands Act.

OMB Control Number: 1010-0172.

Abstract: The Outer Continental Shelf (OCS) Lands Act (43 U.S.C. 1331 et seq.), as amended, requires the Secretary of the Interior to preserve, protect, and develop OCS oil, gas, and sulphur resources; make such resources available to meet the Nation's energy needs; balance orderly energy resources development with protection of the human, marine, and coastal environments; ensure the public a fair and equitable return on the resources offshore; and preserve and maintain free enterprise competition.

Section 1334(f)(1) states “Except as provided in paragraph (2), every permit, license, easement, right-of-way, or other grant of authority for the transportation by pipeline on or across the Outer Continental Shelf of oil or gas shall require that the pipeline be operated in accordance with the following competitive principles: (A) The pipeline must provide open and nondiscriminatory access to both owner and non-owner shippers * * *.”

These responsibilities are among those delegated to the BOEMRE, which replaced the Minerals Management Service (MMS) on June 18, 2010. In order to provide shippers with a methodology to file complaints alleging denial of access or that access is discriminatory access, the MMS promulgated regulations at 30 CFR Part 291. The BOEMRE will use the information submitted during the complaint process to determine whether the shipper has been denied such access or to initiate a more detailed investigation into the specific circumstances of the complainant's allegation. The complaint information will be provided to the alleged offending party. The BOEMRE may request additional information upon completion of the initial investigation.

We will protect information from respondents considered proprietary under the Freedom of Information Act (5 U.S.C. 552) and its implementing regulations (43 CFR Part 2). No items of a sensitive nature are collected. Responses are required to obtain a benefit.

Frequency: The frequency is on occasion.

Description of Respondents: Shippers who do business on the OCS and companies that pay royalties on the OCS.

Estimated Annual Reporting and Recordkeeping Hour Burden: The currently approved hour burden for this collection is 254 hours. Refer to the table below for a break down of the complete burden. This includes the time for reviewing instructions, gathering and maintaining data, and completing and reviewing the information.

Citation 30 CFR 291 | Reporting amd recordkeeping requirement | Hour burden | Average number annual responses
105, 106, 108, 109, 111 | Submit complaint (with fee) to BOEMRE and affected parties. Request confidential treatment and respond to BOEMRE decision | 50 | 5.
|  | $7,500 processing fee
106(b), 109 | Request waiver or reduction of fee | 1 | 4.
104(b), 107, 111 | Submit response to a complaint. Request confidential treatment and respond to BOEMRE decision | Information required after an investigation is opened against a specific entity is exempt under the PRA (5 CFR 1320.4).
110 | Submit required information for BOEMRE to make a decision
114, 115(a) | Submit appeal on BOEMRE final decision

Estimated Annual Reporting and Recordkeeping Non-Hour Cost Burden: We have identified a “non-hour” cost burden of $37,500. The BOEMRE requires that shippers pay a nonrefundable fee of $7,500 for each complaint submitted to recover the Federal Government's processing costs.

Public Disclosure Statement: The PRA (44 U.S.C. 3501, et seq.) provides that an agency may not conduct or sponsor a collection of information unless it displays a currently valid OMB control number. Until OMB approves a collection of information, you are not obligated to respond.

Comments: Before submitting an ICR to OMB, PRA section 3506(c)(2)(A) requires each agency “* * * to provide notice * * * and otherwise consult with members of the public and affected agencies concerning each proposed collection of information * * *”. Agencies must specifically solicit comments to: (a) Evaluate whether the proposed collection of information is necessary for the agency to perform its duties, including whether the information is useful; (b) evaluate the accuracy of the agency's estimate of the burden of the proposed collection of information; (c) enhance the quality, usefulness, and clarity of the information to be collected; and (d) minimize the burden on the respondents, including the use of automated collection techniques or other forms of information technology.

Agencies must also estimate the non-hour cost burdens to respondents or recordkeepers resulting from the collection of information. Therefore, if you have costs to generate, maintain, and disclose this information, you should comment and provide your total capital and startup cost components or annual operation, maintenance, and purchase of service components. You should describe the methods you use to estimate major cost factors, including system and technology acquisition, expected useful life of capital equipment, discount rate(s), and the period over which you incur costs. Capital and startup costs include, among other items, computers and software you purchase to prepare for collecting information, monitoring, and record storage facilities. You should not include estimates for equipment or services purchased: (i) Before October 1, 1995; (ii) to comply with requirements not associated with the information collection; (iii) for reasons other than to provide information or keep records for the Government; or (iv) as part of customary and usual business or private practices.

We will summarize written responses to this notice and address them in our submission for OMB approval. As a result of your comments, we will make any necessary adjustments to the burden in our submission to OMB.

Public Comment Procedures: Before including your address, phone number, e-mail address, or other personal identifying information in your comment, you should be aware that your entire comment—including your personal identifying information—may be made publicly available at any time. While you can ask us in your comment to withhold your personal identifying information from public review, we cannot guarantee that we will be able to do so.

BOEMRE Information Collection Clearance Office: Arlene Bajusz (703) 787-1025.

Dated: September 13, 2010.
George F. Triebsch,
Associate Director, Policy and Management Improvement.

[FR Doc. 2010-23424 Filed 9-17-10; 8:45 am]

BILLING CODE 4310-MR-P